DEPARTMENT OF TRANSPORTATION

Federal Aviation Administration

14 CFR Part 39

[Docket No. FAA-2010-1313; Directorate Identifier 2010-NM-158-AD]

RIN 2120-AA64

Airworthiness Directives; The Boeing Company Model 737-600, -700, -700C, -800, -900, and -900ER Series Airplanes

AGENCY: Federal Aviation Administration (FAA), DOT.

ACTION: Notice of proposed rulemaking (NPRM).

SUMMARY: We propose to adopt a new airworthiness directive (AD) for certain Model 737-600, -700, -700C, -800, -900, and -900ER series airplanes. This proposed AD would require inspecting to determine the clearance and any wire bundle damage between wire bundle W443 and the left forward rudder quadrant, followed by adjusting the minimum clearance between the wire bundle and the left forward rudder quadrant, and repairing any wire bundle damage. This proposed AD results from reports of contact between wire bundle W443 and the left forward rudder quadrant. We are proposing this AD to detect and correct contact between the wire bundle and the left forward rudder quadrant. Damage to the wire bundle could result in uncommanded stabilizer trim and autopilot disconnects due to shorted wires from contact between the wire bundle and the left forward rudder quadrant, potentially affecting the capability of the flight crew during high work load and consequently reducing control of the airplane. Restricted free movement of the rudder quadrant at full right rudder travel would reduce controllability of the airplane.

DATES: We must receive comments on this proposed AD by March 4, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Dean Thompson, Aerospace Engineer, Systems and Equipment Branch, ANM-130S, FAA, Seattle Aircraft Certification Office, 1601 Lind Avenue, SW., Renton, Washington 98057-3356; telephone (425) 917-6409; fax (425) 917-6590.

SUPPLEMENTARY INFORMATION:

Comments Invited

We invite you to send any written relevant data, views, or arguments about this proposed AD. Send your comments to an address listed under the ADDRESSES section. Include “Docket No. FAA-2010-1313; Directorate Identifier 2010-NM-158-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of interference between the left forward rudder quadrant and wire bundle W443 during full right rudder travel. This condition was found on an airplane during a pre-flight check when a pilot reported interference during full-right rudder travel. Twenty airplanes out of 32 that were inspected were found to have non-conforming installations for wire bundle W443, which increase the likelihood for interference during full right rudder movement. Investigation showed that while the interference condition was not present on the 20 airplanes, the wire bundle was installed with too much slack between clamps. Restricted control surface movement can occur from insufficient clearance between the wire bundle and the left forward rudder quadrant, and if the wire bundle is damaged, uncommanded stabilizer or autopilot disconnects could occur due to shorted wires from contact between the wire bundle and the left forward rudder quadrant, potentially affecting the capability of the flight crew during high work load and consequently reducing control of the airplane. Restricted free movement of the rudder quadrant at full right rudder travel, if not corrected, would reduce controllability of the airplane.

Relevant Service Information

We have reviewed Boeing Special Attention Service Bulletin 737-27-1282, Revision 1, dated June 14, 2010. The service bulletin describes procedures for a detailed inspection of wire bundle W443 for damage and repairing any damage, and measuring and adjusting the minimum clearance between the wire bundle and the left forward rudder quadrant.

FAA's Determination and Requirements of This Proposed AD

We are proposing this AD because we evaluated all relevant information and determined the unsafe condition described previously is likely to exist or develop in other products of the same type design. This proposed AD would require accomplishing the actions specified in the service information described previously

Costs of Compliance

We estimate that this proposed AD would affect 870 airplanes of U.S. registry. The following table provides the estimated costs for U.S. operators to comply with this proposed AD.

Table—Estimated Costs
Action | Work-hours | Average labor rate per hour | Cost per product | Number of U.S.- registered airplanes | Fleet cost
Inspection | 2 | $85 | $170 | 870 | $147,900

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2010-1313; Directorate Identifier 2010-NM-158-AD.

Comments Due Date

(a) We must receive comments by March 4, 2011.

Affected ADs

(b) None.

Applicability

(c) This AD applies to The Boeing Company Model 737-600, -700, -700C, -800, -900, and -900ER series airplanes, certificated in any category, as identified in Boeing Special Attention Service Bulletin 737-27-1282, Revision 1, dated June 14, 2010.

Subject

(d) Air Transport Association (ATA) of America Code 27: Flight controls.

Unsafe Condition

(e) This AD results from reports of contact between wire bundle W443 and the left forward rudder quadrant. We are proposing this AD to detect and correct contact between the wire bundle and the left forward rudder quadrant. Damage to the wire bundle could result in uncommanded stabilizer trim and autopilot disconnects due to shorted wires from contact between the wire bundle and the left forward rudder quadrant, potentially affecting the capability of the flight crew during high work load and consequently reducing control of the airplane. Restricted free movement of the rudder quadrant at full right rudder travel would reduce controllability of the airplane.

Compliance

(f) You are responsible for having the actions required by this AD performed within the compliance times specified, unless the actions have already been done.

Wire Bundle W443 Inspection and Clearance Measurement

(g) Within 60 months after the effective date of this AD: Do a detailed inspection of wire bundle W443 for damage and measure for sufficient clearance in accordance with Part 1 of the Work Instructions of Boeing Special Attention Service Bulletin 737-27-1282, Revision 1, dated June 14, 2010. If the wire bundle is undamaged, and sufficient clearance exists, no further action is required by this AD.

Wire Bundle W443 Undamaged: Clearance Adjustment

(h) If the clearance of wire bundle W443 in the inspection required by paragraph (g) of this AD is found to be insufficient, before further flight adjust the wire bundle clearance in accordance with Part 2 of the Work Instructions of Boeing Special Attention Service Bulletin 737-27-1282, Revision 1, dated June 14, 2010.

Wire Bundle W443 Damaged: Repair, and Clearance Adjustment

(i) If wire bundle W443 is found to be damaged in the inspection required by paragraph (g) of this AD, before further flight repair the damaged wire bundle and adjust the wire bundle clearance in accordance with Part 3 of the Work Instructions of Boeing Special Attention Service Bulletin 737-27-1282, Revision 1, dated June 14, 2010.

Credit for Actions Accomplished in Accordance With Previous Service Information

(j) Actions accomplished before the effective date of this AD in accordance with Boeing Special Attention Service Bulletin 737-27-1282, dated March 15, 2007, are considered acceptable for compliance with the corresponding action specified in this AD.

Alternative Methods of Compliance (AMOCs)

(k)(1) The Manager, Seattle Aircraft Certification Office (ACO), FAA, has the authority to approve AMOCs for this AD, if requested using the procedures found in 14 CFR 39.19. Send information to ATTN: Dean Thompson, Aerospace Engineer, Systems and Equipment Branch, ANM-130S, FAA, Seattle ACO, 1601 Lind Avenue, SW., Renton, Washington 98057-3356; telephone (425) 917-6409; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington on January 10, 2011.
Ali Bahrami,
Manager, Transport Airplane Directorate, Aircraft Certification Service.

[FR Doc. 2011-862 Filed 1-14-11; 8:45 am]

BILLING CODE 4910-13-P